SUSQUEHANNA RIVER BASIN COMMISSION

Projects Rescinded for Consumptive Uses of Water

AGENCY: Susquehanna River Basin Commission.

ACTION: Notice.

SUMMARY: This notice lists the approved by rule projects rescinded by the Susquehanna River Basin Commission during the period set forth in DATES.

DATES: August 1-31, 2015.

ADDRESSES: Susquehanna River Basin Commission, 4423 North Front Street, Harrisburg, PA 17110-1788.

FOR FURTHER INFORMATION CONTACT: Jason E. Oyler, General Counsel, telephone: (717) 238-0423, ext. 1312; fax: (717) 238-2436; email: joyler@srbc.net. Regular mail inquiries may be sent to the above address.

SUPPLEMENTARY INFORMATION: This notice lists the projects, described below, being rescinded for the consumptive use of water pursuant to the Commission's approval by rule process set forth in 18 CFR 806.22(e) and 806.22(f) for the time period specified above:

Rescinded ABR Issued August 1-31, 2015

1. Inflection Energy (PA), LLC, Pad ID: Eichenlaub A Pad, ABR-201206014, Upper Fairfield Township, Lycoming County, Pa.; Rescind Date: August 3, 2015.

2. Inflection Energy (PA), LLC, Pad ID: Iffland, ABR-201206015, Upper Fairfield Township, Lycoming County, Pa.; Rescind Date: August 3, 2015.

3. Inflection Energy (PA), LLC, Pad ID: G. Adams, ABR-201206012, Mill Creek Township, Lycoming County, Pa.; Rescind Date: August 3, 2015.

4. Inflection Energy (PA), LLC, Pad ID: Harris RE Trust, ABR-201207008, Fairfield Township, Lycoming County, Pa.; Rescind Date: August 3, 2015.

5. Inflection Energy (PA), LLC, Pad ID: Mussina, ABR-201207001, Fairfield Township, Lycoming County, Pa.; Rescind Date: August 3, 2015.

6. Tenaska Resources, LLC, Pad ID: Merlin, ABR-201012045, Sullivan Township, Tioga County, Pa.; Rescind Date: August 4, 2015.

7. EOG Resources, Inc., Pad ID: Haven 2H, ABR-201008094, Springfield Township, Bradford County, Pa.; Rescind Date: August 12, 2015.

8. EOG Resources, Inc., Pad ID: Kennedy A Pad, ABR-201302001, Smithfield Township, Bradford County, Pa.; Rescind Date: August 12, 2015.

9. EOG Resources, Inc., Pad ID: Kingsley 5HA/6HA Pad, ABR-201110028, Springfield Township, Bradford County, Pa.; Rescind Date: August 12, 2015.

10. EOG Resources, Inc., Pad ID: Plouse A Pad, ABR-201210014, Ridgebury Township, Bradford County, Pa.; Rescind Date: August 12, 2015.

11. EOG Resources, Inc., Pad ID: SGL 90E Pad, ABR-201011025, Lawrence Township, Clearfield County, Pa.; Rescind Date: August 12, 2015.

Authority: Pub. L. 91-575, 84 Stat. 1509 et seq., 18 CFR parts 806, 807, and 808.

Dated: November 10, 2015.
Stephanie L. Richardson,
Secretary to the Commission.

[FR Doc. 2015-29236 Filed 11-16-15; 8:45 am]

BILLING CODE 7040-01-P